DEPARTMENT OF HOMELAND SECURITY

Coast Guard

33 CFR Parts 1, 2, 27, 40, 45, 66, 80, 83, 84, 85, 100, 101, 110, 114, 115, 116, 117, 118, 136, 138, 162, 165, and 177

[Docket No. USCG-2012-0306]

RIN 1625-AB86

Navigation and Navigable Waters; Technical, Organizational, and Conforming Amendments

AGENCY: Coast Guard, DHS.

ACTION: Final rule.

SUMMARY: This rule makes non-substantive changes throughout title 33 of the Code of Federal Regulations. The purpose of this rule is to make conforming amendments and technical corrections to Coast Guard navigation and navigable waters regulations. This rule will have no substantive effect on the regulated public. These changes are provided to coincide with the annual recodification of title 33 on July 1, 2012.

DATES: This final rule is effective June 21, 2012.

ADDRESSES: Documents mentioned in this preamble as being available in the docket are part of docket USCG-2012-0306 and are available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2012-0306 in the “Keyword” box, and then clicking “Search.”

FOR FURTHER INFORMATION CONTACT: If you have questions on this rule, call or email Leo Huott, Coast Guard; telephone 202-372-1027, email Leo.S.Huott@uscg.mil. If you have questions on viewing the docket, call Renee V. Wright, Program Manager, Docket Operations, telephone 202-366-9826.

SUPPLEMENTARY INFORMATION:

Table of Contents for Preamble

I. Abbreviations

II. Regulatory History

III. Background

IV. Basis and Purpose

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

DHS Department of Homeland Security

CFR Code of Federal Regulations

DOT Department of Transportation

FR Federal Register

TSA Transportation Security Administration

OFR Office of the Federal Register

U.S.C. United States Code

II. Regulatory History

We did not publish a notice of proposed rulemaking for this rule. Under 5 U.S.C. 553(b)(A), the Coast Guard finds this rule is exempt from notice and comment rulemaking requirements because these changes involve rules of agency organization, procedure, or practice. In addition, the Coast Guard finds notice and comment procedures are unnecessary under 5 U.S.C. 553(b)(B) as this rule consists only of corrections and editorial, organizational, and conforming amendments and these changes will have no substantive effect on the public. Under 5 U.S.C. 553(d)(3), the Coast Guard finds that, for the same reasons, good cause exists for making this rule effective upon publication in the Federal Register.

III. Background

Each year, the printed edition of title 33 of the Code of Federal Regulations (CFR) is recodified on July 1. This rule, which is effective June 21, 2012, makes technical and editorial corrections throughout title 33. This rule does not create any substantive requirements.

IV. Basis and Purpose

This rule amends 33 CFR part 1 to reflect changes in agency organization by adding the authority for District Commanders to establish inland waterways navigation regulations within their areas of responsibility. In 1999, the Commandant delegated the authority to promulgate regulations under 33 U.S.C. 162, Inland Waterways Navigation Regulations, to District Commanders without further redelegation. This amendment codifies this Commandant delegation.

Additionally, in 33 CFR part 1, the authority section in subpart 1.07 is updated to reflect current authorities. The following citations are being removed since these are citations with authorities under the Department of Transportation (DOT), which no longer apply to the Coast Guard: Sec. 6079(d), Public Law 100-690, 102 Stat. 4181, and 49 CFR 1.46. The following citations are added to the authorities since these citations are more relevant to the current civil penalty process: 14 U.S.C. 92(e), 33 U.S.C. 1321(b)(6)(B), 46 U.S.C. 2103, and Department of Homeland Security Delegation No. 0170.1.

This rule amends § 2.30(b) to reflect the correct citation to article 55 of the 1982 United Nations Convention on the Law of the Sea. We are removing the citation to article 56 because it speaks to the rights, jurisdiction, and duties of the coastal state in the exclusive economic zone, but does not reference the definition of exclusive economic zones. Article 55 sets out the definition of an exclusive economic zone, and is the article relevant to this section.

This rule revises 33 CFR part 27 to remove all references to 33 U.S.C. 1319. This statute does not govern the Coast Guard so we may not authorize a civil monetary penalty under it. This section also informs the public of the maximum civil monetary penalties authorized under 33 U.S.C. 3852 and 46 U.S.C. 70506.

This rule revises 33 CFR parts 40 and 45 to reflect changes in agency organization by removing 49 CFR 1.46(b) from the authority sections in these parts. Because the Coast Guard is no longer a component of DOT, delegations from the Secretary of DOT no longer apply. The regulation at 49 CFR 1.46(b) currently addresses delegations to the Administrator of the Research and Innovative Technology Administration, which is a DOT office.

This rule revises § 66.01-1 by moving current paragraph (a) to paragraph (a) of § 66.10-1, which is the proper location. Due to a clerical error, the current § 66.01-1 paragraph (a) mistakenly replaced the former paragraph (a) in that section. We are now correcting that error and restoring the former paragraph (a) to § 66.01-1 and moving current paragraph (a) in § 66.01-1 to its correct location as paragraph (a) of § 66.10-1.

This rule amends § 80.825 by removing paragraphs (d) and (e) from this section. In 1990, the boundary lines of the Mississippi Passes, Louisiana were redrawn. The coordinates now located in paragraphs (d) and (e) are encompassed by the new boundary lines found in paragraphs (a) through (c) so we are removing these superfluous coordinates in paragraphs (d) and (e).

This rule corrects non-substantive typographical and spelling errors in 33 CFR part 83. In § 83.10, a space has been removed between the heading of the paragraph and the body of the paragraph. In § 83.27, a space has been added between “mine” and “clearance” to make them two separate words.

This rule corrects non-substantive typographical and spelling errors in 33 CFR part 84. In § 84.01, to avoid any printing confusing, cubic meters is replacing meters3. Paragraphs and subparagraphs in § 84.03 and § 84.07 use the incorrect Office of the Federal Register (OFR) numbering scheme. The incorrect numbering scheme is being replaced. In § 84.15, there is a formula for intensity of lights. Following this formula, each letter in the formula is defined. A colon is being inserted after each letter representation and a hard return is added following each colon. The word “two” is incorrectly spelled as “tow” in § 84.17 so the word “two” is being corrected.

This rule corrects non-substantive typographical and spelling errors in 33 CFR part 85. Paragraphs and subparagraphs in § 85.1 use the incorrect OFR numbering scheme. The incorrect numbering scheme is being replaced.

This rule corrects non-substantive typographical and spelling errors in 33 CFR part 100. Table 1 in § 100.901 identifies Buffalo as a “Group” not a “Sector.” This is an incorrect identification so this section is being revised to reflect “Sector.” “Bell” and “Russel” are incorrectly spelled in §§ 100.912 and 100.916, respectively. The correct spellings of “Belle” and “Russell” are being inserted.

This rule revises 33 CFR part 101 to remove a reference to an outdated assessment tool. On May 16, 2012, the Transportation Security Administration (TSA) announced that the TSA Maritime Self-Assessment Risk Module, developed to support the Coast Guard's regulatory efforts promulgated pursuant to the Maritime Transportation Security Act of 2002, will no longer be available. Since this assessment tool will no longer be available, the reference to this tool in section 101.510(a) must be removed.

This rule amends 33 CFR part 110 to reflect changes in geographic coordinates and command boundaries. Based on a previous technical amendment, several geographic coordinates were updated in § 110.60. Several notes in § 110.155 refer back to § 110.60. Therefore, since several geographic coordinates changed in § 110.60, the notes in § 110.155 also need to reflect that change. Additionally, in 1996, the command boundaries for the Captain of the Port Long Island were redrawn. Because of this, the anchorage areas in Randall Bay, Freeport, and Long Island were redrawn under the command of the Captain of the Port Long Island. Section 110.156 is being updated to reflect this command change.

The authority section in 33 CFR part 110 is also revised to correct a citation. The delegation of rulemaking authority to establish anchorages is cited incorrectly as 33 CFR 1.05-1(g). The citation is being changed to reflect that 33 CFR 1.05-1 is the correct authority.

This rule revises the definitional section in § 114.05 to reflect the format in the definitions in § 117.4. The letter designations, including the period after each word, are removed. The definitions will now read as sentences beginning with the word to be defined. The format used in the definitional section in § 117.4 is preferred and this change will create format consistency in the two sections.

Additionally, this rule revises § 114.20(a) to replace the words “a tracing” with the words “as-built plans.” This change does not change the substance of the regulation but replaces a term of art with an updated, more accurate term of art.

This rule revises 33 CFR part 115 to correct grammatically incorrect or passive phrases. In § 115.01, the phrase “for construction of or modification to” is replaced with active language, “to construct or modify.” The grammar in § 115.05 is corrected by replacing the word “be” with “is.”

In § 115.40, we are replacing the words “approval of” with “a formal permit action from”. This section addresses the fact that bridge repairs do not require permitting if they only replace worn or obsolete parts of an already-approved bridge. “Approved” is already used in the short paragraph and “a formal permit action” is a more accurate description of the Coast Guard's role. Therefore, this section has been changed to incorporate permit instead of approval.

In § 115.50, we are changing the word “referred” to “refer” as it is grammatically correct.

In § 115.60, the word “construction” is removed from the heading. This section focuses on applications for permits to construct, modify, or replace bridges. The word “construction” in the title does not accurately indicate the breadth of the regulation so the word is being removed. Also, in paragraph (d) of this section, we are removing a comma after the word “disapproval” since the comma makes the sentence grammatically incorrect.

This rule corrects non-substantive typographical and spelling errors in 33 CFR part 116. In § 116.15(a), we are replacing “Bridge Administration Program” with the correct office designation of “Office of Bridge Programs.”

This rule amends 33 CFR part 117 to correct the current names of the following bridges with their accurate names: Main Street (U.S. 17) Bridge; Baltimore Harbor-Patapsco Bridge; Debbie's Creek Bridge; SR#543 Bridge; Beaufort Channel, NC Bridge; and Rancocas River (Creek) Bridge. Because we are changing existing bridge names to the accurate names, the headings in §§ 117.325(a), 117.541, 117.715, 117.719, 117.745, 117.822, and 117.823 are changed accordingly, and the sections are redesignated to follow the alphabetical order of state waterways set out in this subpart. Also, in § 117.571, “4.0” is changed to “0.4” to reflect the correct mile marker. In § 117.965, “Bay City” is changed to “Bridge City” to reflect the correct location.

The rules in new §§ 117.566 and 117.823 are rewritten to clarify bridge operation and appropriate bridge contacts. Although the substance of the regulations is unchanged, the revisions make them easier to understand.

The rule amends § 118.160 to include the following language in paragraph (b): “(in the closed to navigation position for drawbridges)”. This language will follow the phrase “the bridge channel span”. The substance of the rule is not changing, but inserting the additional language makes the regulation clearer.

This rule corrects non-substantive typographical and spelling errors in 33 CFR part 136. There are commas missing from the following sections in part 136: 136.3, 136.5, and 136.101. We are adding commas in the appropriate places in these sections. In § 136.305, we are correcting the spelling of the word “regarding”, and in that same section, we are replacing “of” with “and”, which is the appropriate conjunction.

This rule corrects non-substantive typographical and spelling errors in 33 CFR part 138. In § 138.20, we are adding missing commas in the appropriate places. Also in that section, we are adding a space between the end of the sentence and the beginning of the next sentence.

This rule corrects non-substantive typographical and spelling errors in 33 CFR part 162. In § 162.120, we are correcting the spelling of two cities' names.

This rule amends 33 CFR 165.941 by removing the word “fireworks” from the section heading. This section speaks to safety zones for annual events in the Captain of the Port Detroit Zone. The word “fireworks” in the heading does not accurately indicate the breadth of the regulation, which applies to any annual event requiring a safety zone. We are also removing paragraph (a)(5) titled “Alpena Fireworks, Alpena, MI” in its entirety, as it is no longer under the responsibility of the Captain of the Port Detroit Zone, and this event was moved to another section by a previous rulemaking. This rule also rewords the notification section in paragraph (f) to clarify already-established Coast Guard practice, stating that the Captain of the Port “may” issue, “if deemed necessary,” a notice cancelling a safety zone, instead of mandating that he or she issue a notice of cancellation.

We are revising an authority in 33 CFR part 177.09(b)(2) to reflect a correct citation. There is currently a reference to 46 U.S.C., pointing out the authority under which certain civil penalties are assessed. Currently, paragraph (b)(2) makes a general reference to this title but immediately following that, it incorrectly lists title 43 instead of 46. We are changing the misquoted reference to 46 U.S.C.

This rule amends §§ 1.05-1(j), 114.50, 165.920(b), and 100.901 in title 33 to update internal Coast Guard office designations as well as certain personnel titles. Changes in personnel titles included in this rule are only technical revisions reflecting changes in agency procedures and organization, and do not indicate new authorities.

Finally, this rule amends §§ 114.50, 118.3(b), and 66.01-5 in title 33 to update various physical addresses for Coast Guard offices as well as Web site addresses and contact information.

V. Regulatory Analyses

We developed this rule after considering numerous statutes and executive orders related to rulemaking. Below we summarize our analyses based on 14 of these statutes or executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

This rule is not a significant regulatory action under section 3(f) of Executive Order 12866 and does not require an assessment of potential costs and benefits under section 6(a)(3) of that Order. The Office of Management and Budget has not reviewed it under that Order. Because this rule involves non-substantive changes and internal agency practices and procedures, it will not impose any additional costs on the public.

B. Small Entities

Under the Regulatory Flexibility Act (5 U.S.C. 601-612), rules exempt from the notice and comment requirements of the APA are not required to examine the impact of the rule on small entities. Nevertheless, we have considered whether this rule would have a significant economic impact on a substantial number of small entities. The term “small entities” comprises small businesses, not-for-profit organizations that are independently owned and operated and are not dominant in their fields, and governmental jurisdictions with populations of less than 50,000.

There is no cost to this rule and we do not expect it to have an impact on small entities because the provisions of this rule are technical and non-substantive. It will have no substantive effect on the public and will impose no additional costs. Therefore, the Coast Guard certifies under 5 U.S.C. 605(b) that this final rule will not have a significant economic impact on a substantial number of small entities.

C. Assistance for Small Entities

Under section 213(a) of the Small Business Regulatory Enforcement Fairness Act of 1996 (Pub. L. 104-121), we want to assist small entities in understanding the rule so that they can better evaluate its effects on them and participate in the rulemaking. If the rule would affect your small business, organization, or governmental jurisdiction and you have questions concerning its provisions or options for compliance, please consult Leo Huott by phone at 202-372-1565 or via email at Leo.S.Huott@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520).

E. Federalism

A rule has implications for federalism under Executive Order 13132, Federalism, if it has a substantial direct effect on State or local governments and would either preempt State law or impose a substantial direct cost of compliance on them. We have analyzed this rule under that Order and have determined that it does not have implications for federalism.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

G. Taking of Private Property

This rule will not cause a taking of private property or otherwise have taking implications under Executive Order 12630, Governmental Actions and Interference with Constitutionally Protected Property Rights.

H. Civil Justice Reform

This rule meets applicable standards in sections 3(a) and 3(b)(2) of Executive Order 12988, Civil Justice Reform, to minimize litigation, eliminate ambiguity, and reduce burden.

I. Protection of Children

We have analyzed this rule under Executive Order 13045, Protection of Children From Environmental Health Risks and Safety Risks. This rule is not an economically significant rule and does not create an environmental risk to health or risk to safety that may disproportionately affect children.

J. Indian Tribal Governments

This rule does not have tribal implications under Executive Order 13175, Consultation and Coordination With Indian Tribal Governments, because it does not have a substantial direct effect on one or more Indian tribes, on the relationship between the Federal Government and Indian tribes, or on the distribution of power and responsibilities between the Federal Government and Indian tribes.

K. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. This rule is categorically excluded under section 2.B.2, figure 2-1, paragraphs (34)(a) and (b) of the Instruction. This rule involves regulations that are editorial, procedural, or concern internal agency functions or organizations. An environmental analysis checklist and a categorical exclusion determination are available in the docket where indicated under ADDRESSES.

List of Subjects

33 CFR Part 1

Administrative practice and procedure, Authority delegations (Government agencies), Freedom of information, Penalties.

33 CFR Part 2

Administrative practice and procedure, Law enforcement.

33 CFR Part 27

Administrative practice and procedure, Penalties.

33 CFR Part 40

Military academies.

33 CFR Part 45

Military personnel, Reporting and recordkeeping requirements.

33 CFR Part 66

Intergovernmental relations, Navigation (water), Reporting and recordkeeping requirements.

33 CFR Part 80

Navigation (water), Treaties, Waterways.

33 CFR Parts 83, 84, and 162

Navigation (water), Waterways.

33 CFR Part 85

Fishing vessels, Navigation (water), Waterways.

33 CFR Part 100

Marine safety, Navigation (water), Reporting and recordkeeping requirements, Waterways.

33 CFR Part 101

Harbors, Maritime security, Reporting and recordkeeping requirements, Security measures, Vessels, Waterways.

33 CFR Part 110

Anchorage grounds.

33 CFR Parts 114, 116, and 117

Bridges.

33 CFR Part 115

Administrative practice and procedure, Bridges, Reporting and recordkeeping requirements.

33 CFR Part 118

Bridges.

33 CFR Part 136

Administrative practice and procedure, Advertising, Claims, Oil pollution, Penalties, Reporting and recordkeeping requirements.

33 CFR Part 138

Hazardous materials transportation, Insurance, Oil pollution, Reporting and recordkeeping requirements, Water pollution control.

33 CFR Part 165

Harbors, Marine safety, Navigation (water), Reporting and recordkeeping requirements, Security measures, Waterways.

33 CFR Part 177

Marine safety.

For the reasons discussed in the preamble, the Coast Guard amends 33 CFR parts 1, 2, 27, 40, 45, 66, 80, 83, 84, 85, 100, 101, 110, 114, 115, 116, 117, 118, 136, 138, 162, 165, and 177 as follows:

PART 1—GENERAL PROVISIONS

Subpart 1.05—Rulemaking

1. The authority citation for subpart 1.05 continues to read as follows:

Authority: 5 U.S.C. 552, 553, App. 2; 14 U.S.C. 2, 631, 632, and 633; 33 U.S.C. 471, 499; 49 U.S.C. 101, 322; Department of Homeland Security Delegation No. 0170.1.

2. Amend § 1.05-1 as follows:

a. Add paragraph (e)(1)(vii) to read as set forth below; and

b. In paragraph (j), remove the words “District Bridge Chief” wherever they appear, and add, in their place, the words “District Bridge Programs Chief”.

§ 1.05-1 Delegation of rulemaking authority.

* * * * *

(e) * * *

(1) * * *

(vii) The establishment of inland waterways navigation regulations.

* * * * *

Subpart 1.07— Enforcement; Civil and Criminal Penalty Proceedings

3. The authority citation for subpart 1.07 is revised to read as follows:

Authority: 14 U.S.C. 633; 14 U.S.C. 92(e); 33 U.S.C. 1321(b)(6)(B); 46 U.S.C. 2103; Department of Homeland Security Delegation 0701.1.

PART 2—JURISDICTION

4. The authority citation for part 2 continues to read as follows:

Authority: 14 U.S.C. 633; 33 U.S.C. 1222; Pub. L. 89-670, 80 Stat. 931, 49 U.S.C. 108; Pub. L. 107-296, 116 Stat. 2135, 2249, 6 U.S.C. 101 note and 468; Department of Homeland Security Delegation No. 0170.1.

§ 2.30 [Amended]

5. In § 2.30(b), following the words “as reflected in Article”, remove the number “56” and add, in its place, the number “55”.

PART 27— ADJUSTMENT OF CIVIL MONETARY PENALTIES FOR INFLATION

6. The authority citation for part 27 continues to read as follows:

Authority: Secs. 1-6, Pub. L. 101-410, 104 Stat. 890, as amended by Sec. 31001(s)(1), Pub. L. 104-134, 110 Stat. 1321 (28 U.S.C. 2461 note); Department of Homeland Security Delegation No. 0170.1, sec. 2 (106).

7. Revise § 27.3 to read as follows:

§ 27.3 Penalty Adjustment Table.

Table 1 identifies the statutes administered by the Coast Guard that authorize a civil monetary penalty. The “adjusted maximum penalty” is the maximum penalty authorized by the Federal Civil Penalties Inflation Adjustment Act of 1990, as amended, as determined by the Coast Guard.

Table 1—Civil Monetary Penalty Inflation Adjustments
U.S. Code citation | Civil monetary penalty description | 2012 Adjusted maximum penalty amount ($)
14 U.S.C. 88(c) | Saving Life and Property | 8,000
14 U.S.C. 645(i) | Confidentiality of Medical Quality Assurance Records (first offense) | 4,000
14 U.S.C. 645(i) | Confidentiality of Medical Quality Assurance Records (subsequent offenses) | 30,000
16 U.S.C. 4711(g)(1) | Aquatic Nuisance Species in Waters of the United States | 35,000
19 U.S.C. 70 | Obstruction of Revenue Officers by Masters of Vessels | 3,000
19 U.S.C. 70 | Obstruction of Revenue Officers by Masters of Vessels—Minimum Penalty | 700
19 U.S.C. 1581(d) | Failure to Stop Vessel When Directed; Master, Owner, Operator or Person in Charge ¹ | 5,000
19 U.S.C. 1581(d) | Failure to Stop Vessel When Directed; Master, Owner, Operator or Person in Charge—Minimum Penalty ¹ | 1,000
33 U.S.C. 471 | Anchorage Ground/Harbor Regulations General | 110
33 U.S.C. 474 | Anchorage Ground/Harbor Regulations St. Mary's River | 300
33 U.S.C. 495(b) | Bridges/Failure to Comply with Regulations ² | 25,000
33 U.S.C. 499(c) | Bridges/Drawbridges ² | 25,000
33 U.S.C. 502(c) | Bridges/Failure to Alter Bridge Obstructing Navigation ² | 25,000
33 U.S.C. 533(b) | Bridges/Maintenance and Operation | 25,000
33 U.S.C. 1208(a) | Bridge to Bridge Communication; Master, Person in Charge or Pilot | 800
33 U.S.C. 1208(b) | Bridge to Bridge Communication; Vessel | 800
33 U.S.C. 1232(a) | PWSA Regulations | 40,000
33 U.S.C. 1236(b) | Vessel Navigation: Regattas or Marine Parades; Unlicensed Person in Charge | 8,000
33 U.S.C. 1236(c) | Vessel Navigation: Regattas or Marine Parades; Owner Onboard Vessel | 8,000
33 U.S.C. 1236(d) | Vessel Navigation: Regattas or Marine Parades; Other Persons | 3,000
33 U.S.C. 1321(b)(6)(B)(i) | Oil/Hazardous Substances: Discharges (Class I per violation) | 15,000
33 U.S.C. 1321(b)(6)(B)(i) | Oil/Hazardous Substances: Discharges (Class I total under paragraph) | 40,000
33 U.S.C. 1321(b)(6)(B)(ii) | Oil/Hazardous Substances: Discharges (Class II per day of violation) | 15,000
33 U.S.C. 1321(b)(6)(B)(ii) | Oil/Hazardous Substances: Discharges (Class II total under paragraph) | 190,000
33 U.S.C. 1321(b)(7)(A) | Oil/Hazardous Substances: Discharges (per day of violation) Judicial Assessment | 40,000
33 U.S.C. 1321(b)(7)(A) | Oil/Hazardous Substances: Discharges (per barrel of oil or unit discharged) Judicial Assessment | 1,100
33 U.S.C. 1321(b)(7)(B) | Oil/Hazardous Substances: Failure to Carry Out Removal/Comply With Order (Judicial Assessment) | 40,000
33 U.S.C. 1321(b)(7)(C) | Oil/Hazardous Substances: Failure to Comply with Regulation Issued Under 1321(j) (Judicial Assessment) | 40,000
33 U.S.C. 1321(b)(7)(D) | Oil/Hazardous Substances: Discharges, Gross Negligence (per barrel of oil or unit discharged) Judicial Assessment | 4,000
33 U.S.C. 1321(b)(7)(D) | Oil/Hazardous Substances: Discharges, Gross Negligence—Minimum Penalty (Judicial Assessment) | 130,000
33 U.S.C. 1322(j) | Marine Sanitation Devices; Operating | 3,000
33 U.S.C. 1322(j) | Marine Sanitation Devices; Sale or Manufacture | 8,000
33 U.S.C. 1608(a) | International Navigation Rules; Operator | 8,000
33 U.S.C. 1608(b) | International Navigation Rules; Vessel | 8,000
33 U.S.C. 1908(b)(1) | Pollution from Ships; General | 40,000
33 U.S.C. 1908(b)(2) | Pollution from Ships; False Statement | 8,000
33 U.S.C. 2072(a) | Inland Navigation Rules; Operator | 8,000
33 U.S.C. 2072(b) | Inland Navigation Rules; Vessel | 8,000
33 U.S.C. 2609(a) | Shore Protection; General | 40,000
33 U.S.C. 2609(b) | Shore Protection; Operating Without Permit | 15,000
33 U.S.C. 2716a(a) | Oil Pollution Liability and Compensation | 40,000
33 U.S.C. 3852(a)(1)(A) | Clean Hulls; Civil Enforcement | 37,500
33 U.S.C. 3852(a)(1)(B) | Clean Hulls; Civil Enforcement | 50,000
42 U.S.C. 9609(a) | Hazardous Substances, Releases, Liability, Compensation (Class I) | 35,000
42 U.S.C. 9609(b) | Hazardous Substances, Releases, Liability, Compensation (Class II) | 35,000
42 U.S.C. 9609(b) | Hazardous Substances, Releases, Liability, Compensation (Class II subsequent offense) | 100,000
42 U.S.C. 9609(c) | Hazardous Substances, Releases, Liability, Compensation (Judicial Assessment) | 35,000
42 U.S.C. 9609(c) | Hazardous Substances, Releases, Liability, Compensation (Judicial Assessment subsequent offense) | 100,000
46 U.S.C. App 1505(a)(2) | Safe Containers for International Cargo | 8,000
46 U.S.C. App 1712(a) | International Ocean Commerce Transportation—Common Carrier Agreements per violation | 6,000
46 U.S.C. App 1712(a) | International Ocean Commerce Transportation—Common Carrier Agreements per violation—Willfull violation | 30,000
46 U.S.C. App 1712(b) | International Ocean Commerce Transportation—Common Carrier Agreements—Fine for tariff violation (per shipment) | 60,000
46 U.S.C. App 1805(c)(2) | Suspension of Passenger Service | 70,000
46 U.S.C. 2110(e) | Vessel Inspection or Examination Fees | 8,000
46 U.S.C. 2115 | Alcohol and Dangerous Drug Testing | 7,000
46 U.S.C. 2302(a) | Negligent Operations: Recreational Vessels | 6,000
46 U.S.C. 2302(a) | Negligent Operations: Other Vessels | 30,000
46 U.S.C. 2302(c)(1) | Operating a Vessel While Under the Influence of Alcohol or a Dangerous Drug | 7,000
46 U.S.C. 2306(a)(4) | Vessel Reporting Requirements: Owner, Charterer, Managing Operator, or Agent | 8,000
46 U.S.C. 2306(b)(2) | Vessel Reporting Requirements: Master | 1,100
46 U.S.C. 3102(c)(1) | Immersion Suits | 8,000
46 U.S.C. 3302(i)(5) | Inspection Permit | 1,100
46 U.S.C. 3318(a) | Vessel Inspection; General | 8,000
46 U.S.C. 3318(g) | Vessel Inspection; Nautical School Vessel | 8,000
46 U.S.C. 3318(h) | Vessel Inspection; Failure to Give Notice IAW 3304(b) | 1,100
46 U.S.C. 3318(i) | Vessel Inspection; Failure to Give Notice IAW 3309(c) | 1,100
46 U.S.C. 3318(j)(1) | Vessel Inspection; Vessel ≥1600 Gross Tons | 15,000
46 U.S.C. 3318(j)(1) | Vessel Inspection; Vessel <1600 Gross Tons | 3,000
46 U.S.C. 3318(k) | Vessel Inspection; Failure to Comply with 3311(b) | 15,000
46 U.S.C. 3318(l) | Vessel Inspection; Violation of 3318(b)-3318(f) | 8,000
46 U.S.C. 3502(e) | List/count of Passengers | 110
46 U.S.C. 3504(c) | Notification to Passengers | 15,000
46 U.S.C. 3504(c) | Notification to Passengers; Sale of Tickets | 800
46 U.S.C. 3506 | Copies of Laws on Passenger Vessels; Master | 300
46 U.S.C. 3718(a)(1) | Liquid Bulk/Dangerous Cargo | 40,000
46 U.S.C. 4106 | Uninspected Vessels | 8,000
46 U.S.C. 4311(b)(1) | Recreational Vessels (maximum for related series of violations) | 300,000
46 U.S.C. 4311(b)(1) | Recreational Vessels; Violation of 4307(a) | 6,000
46 U.S.C. 4311(c) | Recreational vessels | 1,100
46 U.S.C. 4507 | Uninspected Commercial Fishing Industry Vessels | 8,000
46 U.S.C. 4703 | Abandonment of Barges | 1,100
46 U.S.C. 5116(a) | Load Lines | 8,000
46 U.S.C. 5116(b) | Load Lines; Violation of 5112(a) | 15,000
46 U.S.C. 5116(c) | Load Lines; Violation of 5112(b) | 8,000
46 U.S.C. 6103(a) | Reporting Marine Casualties | 35,000
46 U.S.C. 6103(b) | Reporting Marine Casualties; Violation of 6104 | 8,000
46 U.S.C. 8101(e) | Manning of Inspected Vessels; Failure to Report Deficiency in Vessel Complement | 1,100
46 U.S.C. 8101(f) | Manning of Inspected Vessels | 15,000
46 U.S.C. 8101(g) | Manning of Inspected Vessels; Employing or Serving in Capacity not Licensed by USCG | 15,000
46 U.S.C. 8101(h) | Manning of Inspected Vessels; Freight Vessel <100 GT, Small Passenger Vessel, or Sailing School Vessel | 1,100
46 U.S.C. 8102(a) | Watchmen on Passenger Vessels | 1,100
46 U.S.C. 8103(f) | Citizenship Requirements | 800
46 U.S.C. 8104(i) | Watches on Vessels; Violation of 8104(a) or (b) | 15,000
46 U.S.C. 8104(j) | Watches on Vessels; Violation of 8104(c), (d), (e), or (h) | 15,000
46 U.S.C. 8302(e) | Staff Department on Vessels | 110
46 U.S.C. 8304(d) | Officer's Competency Certificates | 110
46 U.S.C. 8502(e) | Coastwise Pilotage; Owner, Charterer, Managing Operator, Agent, Master or Individual in Charge | 15,000
46 U.S.C. 8502(f) | Coastwise Pilotage; Individual | 15,000
46 U.S.C. 8503 | Federal Pilots | 40,000
46 U.S.C. 8701(d) | Merchant Mariners Documents | 800
46 U.S.C. 8702(e) | Crew Requirements | 15,000
46 U.S.C. 8906 | Small Vessel Manning | 35,000
46 U.S.C. 9308(a) | Pilotage: Great Lakes; Owner, Charterer, Managing Operator, Agent, Master or Individual in Charge | 15,000
46 U.S.C. 9308(b) | Pilotage: Great Lakes; Individual | 15,000
46 U.S.C. 9308(c) | Pilotage: Great Lakes; Violation of 9303 | 15,000
46 U.S.C. 10104(b) | Failure to Report Sexual Offense | 8,000
46 U.S.C. 10314(a)(2) | Pay Advances to Seamen | 800
46 U.S.C. 10314(b) | Pay Advances to Seamen; Remuneration for Employment | 800
46 U.S.C. 10315(c) | Allotment to Seamen | 800
46 U.S.C. 10321 | Seamen Protection; General | 7,000
46 U.S.C. 10505(a)(2) | Coastwise Voyages: Advances | 7,000
46 U.S.C. 10505(b) | Coastwise Voyages: Advances; Remuneration for Employment | 7,000
46 U.S.C. 10508(b) | Coastwise Voyages: Seamen Protection; General | 7,000
46 U.S.C. 10711 | Effects of Deceased Seamen | 300
46 U.S.C. 10902(a)(2) | Complaints of Unfitness | 800
46 U.S.C. 10903(d) | Proceedings on Examination of Vessel | 110
46 U.S.C. 10907(b) | Permission to Make Complaint | 800
46 U.S.C. 11101(f) | Accommodations for Seamen | 800
46 U.S.C. 11102(b) | Medicine Chests on Vessels | 800
46 U.S.C. 11104(b) | Destitute Seamen | 110
46 U.S.C. 11105(c) | Wages on Discharge | 800
46 U.S.C. 11303(a) | Log Books; Master Failing to Maintain | 300
46 U.S.C. 11303(b) | Log Books; Master Failing to Make Entry | 300
46 U.S.C. 11303(c) | Log Books; Late Entry | 200
46 U.S.C. 11506 | Carrying of Sheath Knives | 80
46 U.S.C. 12151(a) | Documentation of Vessels (violation per day) | 15,000
46 U.S.C. 12151(c) | Engaging in Fishing After Falsifying Eligibility (fine per day) | 130,000
46 U.S.C. 12309(a) | Numbering of Undocumented Vessels—Willfull violation | 6,000
46 U.S.C. 12309(b) | Numbering of Undocumented Vessels | 1,100
46 U.S.C. 12507(b) | Vessel Identification System | 15,000
46 U.S.C. 14701 | Measurement of Vessels | 30,000
46 U.S.C. 14702 | Measurement; False Statements | 30,000
46 U.S.C. 31309 | Commercial Instruments and Maritime Liens | 15,000
46 U.S.C. 31330(a)(2) | Commercial Instruments and Maritime Liens; Mortgagor | 15,000
46 U.S.C. 31330(b)(2) | Commercial Instruments and Maritime Liens; Violation of 31329 | 35,000
46 U.S.C. 70119 | Port Security | 30,000
46 U.S.C. 70119(b) | Port Security—Continuing Violations | 50,000
46 U.S.C. 70506 | Maritime Drug Law Enforcement; Penalties | 5,000
49 U.S.C. 5123(a)(1) | Hazardous Materials: Related to Vessels—Maximum Penalty | 60,000
49 U.S.C. 5123(a)(1) | Hazardous Materials: Related to Vessels—Minimum Penalty | 300
49 U.S.C. 5123(a)(2) | Hazardous Materials: Related to Vessels—Penalty from Fatalities, Serious Injuries/Illness or substantial Damage to Property | 110,000
Note: The changes in Civil Penalties for calendar year 2012, shown above, are based on the change in CPI-U from June 2009 to June 2010. The recorded change in CPI-U during that period was 1.05%. Because of the small change in CPI-U and the required rules for rounding, there was no change to any of the maximum penalty amounts from the previous adjustment.
¹ Enacted under the Tariff Act of 1930, exempt from inflation adjustments.
² These penalties increased in accordance with the statute to $10,000 in 2005, $15,000 in 2006, $20,000 in 2007, and $25,000 in 2008 and thereafter.

PART 40—CADETS OF THE COAST GUARD

8. The authority citation for part 40 is revised to read as follows:

Authority: 14 U.S.C. 182 and 633.

PART 45—ENLISTMENT OF PERSONNEL

9. The authority citation for part 45 is revised to read as follows:

Authority: 14 U.S.C. 351, 371; Pub. L. 107-296, 116 Stat. 2135.

PART 66—PRIVATE AIDS TO NAVIGATION

10. The authority citation for part 66 continues to read as follows:

Authority: 14 U.S.C. 83, 84, 85; 43 U.S.C. 1333; Pub. L. 107-296, 116 Stat. 2135; Department of Homeland Security Delegation No. 0170.1.

11. In § 66.01-1, revise paragraph (a) to read as follows:

§ 66.01-1 Basic provisions.

(a) No person, public body, or instrumentality not under the control of the Commandant, exclusive of the Armed Forces, will establish and maintain, discontinue, change or transfer ownership of any aid to maritime navigation, without first obtaining permission to do so from the Commandant.

* * * * *

§ 66.01-5 [Amended]

12. In § 66.01-5 introductory text, following the text “CG-2554 at”, remove the text “ http://www.uscgboating.org/safety/aton/aids.htm”, and add, in its place, the text “http://www.uscg.mil/forms/form_public_use.asp”.

13. Amend § 66.10-1 as follows:

a. Redesignate paragraphs (a) and (b) as paragraphs (b) and (c), respectively; and

b. Add new paragraph (a) to read as follows:

§ 66.10-1 General.

(a) The Uniform State Waterway Marking System's (USWMS) aids to navigation provisions for marking channels and obstructions (see § 66.10-15) may be used in those navigable waters of the U.S. that have been designated as state waters for private aids to navigation and in those internal waters that are non-navigable waters of the U.S. All other provisions for the use of regulatory markers and other aids to navigation must be in accordance with United States Aid to Navigation System, described in part 62 of this subchapter.

* * * * *

PART 80—COLREGS DEMARCATION LINES

14. The authority citation for part 80 is revised to read as follows:

Authority: 14 U.S.C. 2; 14 U.S.C. 633; 33 U.S.C. 151(a).

§ 80.155 [Amended]

15. In § 80.155(g), remove the word “Nichols” and add, in its place, the word “Nicholl”.

§ 80.825 [Amended]

16. In § 80.825, remove paragraphs (d) and (e).

PART 83—RULES

17. The authority citation for part 83 continues to read as follows:

Authority: Sec. 303, Pub. L. 108-293, 118 Stat. 1028 (33 U.S.C. 2001); Department of Homeland Security Delegation No. 0170.1.

18. In § 83.10, revise paragraph (l) to read as follows:

§ 83.10 Traffic separation schemes (Rule 10).

* * * * *

(l) Exemption; laying, servicing, or picking up submarine cable. A vessel restricted in her ability to maneuver when engaged in an operation for the laying, servicing, or picking up of a submarine cable, within a traffic separation scheme, is exempted from complying with this rule to the extent necessary to carry out the operation.

§ 83.27 [Amended]

19. In § 83.27(f), remove the word “mineclearance” wherever it appears, and add, in its place, the words “mine clearance”.

PART 84—ANNEX I: POSITIONING AND TECHNICAL DETAILS OF LIGHTS AND SHAPES

20. The authority citation for part 84 continues to read as follows:

Authority: 33 U.S.C. 2071; Department of Homeland Security Delegation No. 0170.1.

§ 84.01 [Amended]

21. In § 84.01(b), following the text “design waterline (”, remove the text “meters3”, and add, in its place, the text “cubic meters”.

§ 84.03 [Amended]

22. In § 84.03(f)(2), following the text “Rule 27(b)”, remove the text “(i)”, and add, in its place, the text “(1)”.

§ 84.07 [Amended]

23. Amend § 84.07 as follows:

a. In paragraph (a), remove the text “Rule 26 (c)(ii)”, and add, in its place, the text “Rule 26(c)(2)”; and remove the text “Rule 26(c)(i)”, and add, in its place, the text “Rule 26(c)(1)”; and

b. In paragraph (b), remove the text “Rule 27(d)(i) and (ii)”, and add, in its place, the text “Rule 27(d)(1) and (2)”; and remove the text “Rule 27(b)(i) and (ii)” wherever it appears, and add, in its place, the text “Rule 27(b)(1) and (2)”.

24. Revise § 84.15(a) to read as follows:

§ 84.15 Intensity of lights.

(a) The minimum luminous intensity of lights will be calculated by using the formula:

I = 3.43 × 10⁶ × T × D² × K−D

where I is luminous intensity in candelas under service conditions,

T is threshold factor 2 × 10⁻⁷ lux,

D is range of visibility (luminous range) of the light in nautical miles,

K is atmospheric transmissivity. For prescribed lights the value of K will be 0.8, corresponding to a meteorological visibility of approximately 13 nautical miles.

* * * * *

§ 84.17 [Amended]

25. In § 84.17(c) “Note to paragraph (c)”, remove the word “Tow”, and add, in its place, the word “Two”.

PART 85—ANNEX II: ADDITIONAL SIGNALS FOR FISHING VESSELS FISHING IN CLOSE PROXIMITY

26. The authority citation for part 85 is revised to read as follows:

Authority: Sec. 3, Pub. L. 96-591.

§ 85.1 [Amended]

27. In § 85.1, remove the text “Rule 26(b)(i) and (c)(i)”, and add, in its place, the text “Rule 26(b)(1) and (c)(1)”.

PART 100—SAFETY OF LIFE ON NAVIGABLE WATERS

28. The authority citation for part 100 continues to read as follows:

Authority: 33 U.S.C. 1233.

§ 100.901 [Amended]

29. In § 100.901 “Table 1”, remove the words “Group Buffalo”, and add, in their place, the words “Sector Buffalo”.

30. Revise the heading of § 100.912 to read as follows:

§ 100.912 Detroit Belle Isle Grand Prix, Detroit MI.

* * * * *

§ 100.916 [Amended]

31. In § 100.916(a), remove the word “Russel” wherever it appears, and add, in its place, the word “Russell”.

PART 101—MARITIME SECURITY: GENERAL

32. The authority citation for part 101 continues to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation Number 0170.1.

33. Revise § 101.510 to read as follows:

§ 101.510 Assessment tools.

Ports, vessels, and facilities required to conduct security assessments by part 103, 104, 105, or 106 of this subchapter may use any assessment tool that meets the standards set out in part 103, 104, 105, or 106, as applicable. These tools may include USCG assessment tools, which are available from the cognizant COTP or at http://www.uscg.mil/hq/g-m/nvic, as set out in the following:

(a) Navigation and Vessel Inspection Circular titled, “Guidelines for Port Security Committees, and Port Security Plans Required for U.S. Ports” (NVIC 9-02 change 2);

(b) Navigation and Vessel Inspection Circular titled, “Security Guidelines for Vessels”, (NVIC 10-02 change 1); and

(c) Navigation and Vessel Inspection Circular titled, “Security Guidelines for Facilities”, (NVIC 11-02 change 1).

PART 110—ANCHORAGE REGULATIONS

34. The authority citation for part 110 is revised to read as follows:

Authority: 33 U.S.C. 471, 1221 through 1236, 2030, 2035, 2071; 33 CFR 1.05-1; Department of Homeland Security Delegation No. 0170.1.

35. In § 110.155, revise the notes following paragraphs (a)(2), (a)(3), (f)(3), and (h)(4) to read as follows:

§ 110.155 Port of New York.

(a) * * *

(2) * * *

Note to paragraph (a)(2): The special anchorage area in this anchorage is described in § 110.60.

(3) * * *

Note to paragraph (a)(3): The special anchorage area in this anchorage is described in § 110.60.

* * * * *

(f) * * *

(3) * * *

Note to paragraph (f)(3): The special anchorage area in this anchorage is described in § 110.60.

* * * * *

(h) * * *

(4) * * *

Note to paragraph (h)(4): The special anchorage area in this anchorage is described in § 110.60.

* * * * *

§ 110.156 [Amended]

36. In § 110.156(b)(1) following the words “Captain of the Port of”, remove the words “New York”, and add, in their place, the words “Long Island Sound”.

PART 114—GENERAL

37. The authority citation for part 114 continues to read as follows:

Authority: 33 U.S.C. 401, 406, 491, 494, 495, 499, 502, 511, 513, 514, 516, 517, 519, 521, 522, 523, 525, 528, 530, 533, and 535(c), (e), and (h); 14 U.S.C. 633; 49 U.S.C. 1655(g); Pub. L. 107-296, 116 Stat. 2135; 33 CFR 1.05-1 and 1.01-60, Department of Homeland Security Delegation Number 0170.1.

38. Revise § 114.05 to read as follows:

§ 114.05 Definitions.

The following definitions apply to this subchapter:

Approved means approved by the Commandant unless otherwise stated.

Bridge means a structure erected across navigable waters of the United States, and includes causeways, approaches, fenders, and other appurtenances thereto.

Coast Guard District Commander or District Commander means an officer of the Coast Guard designated as such by the Commandant to command all Coast Guard activities within his or her district. (See part 3 of this chapter for descriptions of Coast Guard Districts.)

Commandant means Commandant, U.S. Coast Guard, Department of Homeland Security, Washington, DC 20593.

Deputy Commandant for Operations means the officer of the Coast Guard designated by the Commandant as the staff officer in charge of “Operations” (DCO), U.S. Coast Guard Headquarters.

District Office or Coast Guard District Office means the Office of the Commander of a Coast Guard District.

Headquarters or Coast Guard Headquarters means the Office of the Commandant, U.S. Coast Guard, Department of Homeland Security, Washington, DC 20593-7000.

Permit means the license permitting construction of bridges and approaches thereto in or over navigable waters of the United States, issued under the rules and regulations in this subchapter.

Secretary means the Secretary of Homeland Security or any person to whom he or she has delegated his or her authority in the matter concerned.

United States Coast Guard or Coast Guard means the organization or agency established by the Act of January 28, 1915, as amended (14 U.S.C. 1).

§ 114.20 [Amended]

39. In § 114.20(a), following the text “required to furnish”, remove the text “a tracing” and add, in its place, the text “as-built plans”.

§ 114.50 [Amended]

40. Amend § 114.50 as follows:

a. Remove the text “(CG-551)”, and add, in its place, the text “(CG-BRG)”;

b. Following the text “2nd St. SW., Stop” remove the text “7683” and add, in its place, the text “7580”; and

c. Following the text “DC 20593-”, remove the text “7683”, and add, in its place, the text “7580”.

PART 115—BRIDGE LOCATIONS AND CLEARANCES; ADMINISTRATIVE PROCEDURES

41. The authority citation for part 115 is revised to read as follows:

Authority: c. 425, sec. 9, 30 Stat. 1151 (33 U.S.C. 401); c. 1130, sec. 1, 34 Stat. 84 (33 U.S.C. 491); sec. 5, 28 Stat. 362, as amended (33 U.S.C. 499); sec. 11, 54 Stat. 501, as amended (33 U.S.C. 521); c. 753, Title V, sec. 502, 60 Stat. 847, as amended (33 U.S.C. 525); 86 Stat. 732 (33 U.S.C. 535); 14 U.S.C. 633.

§ 115.01 [Amended]

42. In § 115.01, following the words “a permit”, remove the words “for construction of or modification to”, and add, in their place, the words “to construct or modify”.

§ 115.05 [Amended]

43. In § 115.05, following the words “authority. If there”, remove the word “be”, and add, in its place, the word “is”.

§ 115.40 [Amended]

44. In § 115.40, following the words “routine maintenance without”, remove the words “approval of”, and add, in their place, the words “a formal permit action from”.

§ 115.50 [Amended]

45. In § 115.50(h)(1), following the words “in feet and”, remove the word “referred”, and add, in its place, the word “refer”.

46. Amend § 115.60 as follows:

a. Revise the section heading to read as set forth below;

b. In paragraph (a), following the words “construction of the bridge, reviews”, remove the text “,”; and

c. In paragraph (d)(3), following the text “reasons for the disapproval”, remove the text “,”.

§ 115.60 Procedures for handling applications for bridge construction permits.

* * * * *

PART 116—ALTERATION OF UNREASONABLY OBSTRUCTIVE BRIDGES

47. The authority citation for part 116 is revised to read as follows:

Authority: 33 U.S.C. 401, 521.

§ 116.15 [Amended]

48. In § 116.15(a), remove the words “Bridge Administration Program”, and add, in their place, the words “Office of Bridge Programs”.

PART 117—DRAWBRIDGE OPERATION REGULATIONS

49. The authority citation for part 117 continues to read as follows:

Authority: 33 U.S.C. 499; 33 CFR 1.05-1; and Department of Homeland Security Delegation No. 0170.1.

§ 117.325 [Amended]

50. In § 117.325(a), remove the text “(US 17)”, and add, in its place, the text “(US 1/SR 90)”.

§ 117.541 [Redesignated as § 117.566]

51. Redesignate § 117.541 as § 117.566.

52. In newly redesignated § 117.566, revise the section heading and paragraph (a) to read as follows:

§ 117.566 Patapsco River—Middle Branch.

(a) The draw of the Hanover Street S2 bridge, mile 12.0 across the Middle Branch of the Patapsco River at Baltimore, will open on signal from 5 a.m. to 6:30 a.m., 9:30 a.m. to 4 p.m., and 6 p.m. to 9:00 p.m. The draw need not be opened from 6:30 a.m. to 9:30 a.m. and 4 p.m. to 6 p.m.; however, fire boats, police boats, and other vessels engaged in emergency operations will be passed immediately during this period. When a vessel desires to pass the draw from 9 p.m. to 5 a.m., notice will be given to the superintendent of the bridge, either at the bridge before 9 p.m. or at the superintendent's residence after 9 p.m. If the notice is given from 5 a.m. to 9 p.m. or if at least one half hour has elapsed since the notice was given, the draw will open promptly at the time requested.

* * * * *

§ 117.571 [Amended]

53. In § 117.571 introductory text, remove “4.0”, and add, in its place, the text “0.4”.

§ 117.719 [Redesignated as § 117.718]

54. Redesignate § 117.719 as § 117.718.

§ 117.715 [Redesignated as § 117.719]

55. Redesignate § 117.715 as 117.719.

§ 117.719 [Amended]

56. In newly redesignated § 117.719, revise the section heading to read as follows:

§ 117.719 Glimmer Glass (Debbie's Creek).

* * * * *

§ 117.745 [Amended]

57. Amend § 117.745 as follows:

a. Revise the section heading to read as set forth below; and

b. In paragraph (b) introductory text, remove the text “SR#543 Drawbridge”, and add, in its place, the text “Riverside-Delanco/SR #543 Drawbridge”.

§ 117.745 Rancocas Creek.

* * * * *

§ 117.822 [Removed]

58. Remove § 117.822.

§ 117.823 [Redesignated as § 117.822]

59. Redesignate § 117.823 as § 117.822.

60. Add § 117.823 to read as follows:

§ 117.823 Gallants Channel.

The draw of the US 70 bridge, mile 0.1, at Beaufort, will open as follows:

(a) From 6 a.m. to 10 p.m., the draw need only open on the hour and on the half hour; except that Monday through Friday the bridge need not open between the hours of 6:30 a.m. to 8 a.m. and 4:30 p.m. to 6 p.m.

(b) From 10 p.m. to 6 a.m., the bridge will open on signal.

§ 117.965 [Amended]

61. In § 117.965, following the text “mile 4.5 at”, remove the text “Bay”, and add, in its place, the text “Bridge”.

PART 118—BRIDGE LIGHTING AND OTHER SIGNALS

62. The authority citation for part 118 continues to read as follows:

Authority: 33 U.S.C. 494; 14 U.S.C. 85, 633; Department of Homeland Security Delegation No. 0170.1.

§ 118.3 [Amended]

63. In § 118.3(b) following the text “2100 2nd St. SW., Stop”, remove the text “7683” and add, in its place, the text “7580”; and following the text “DC 20593-”, remove the text “7683” and add, in its place, the text “7580”.

§ 118.160 [Amended]

64. In § 118.160(b), following the words “the bridge channel span”, add the words “(in the closed to navigation position for drawbridges)”.

PART 136—OIL SPILL LIABILITY TRUST FUND; CLAIMS PROCEDURES; DESIGNATION OF SOURCE; AND ADVERTISEMENT

65. The authority citation for part 136 continues to read as follows:

Authority: 33 U.S.C. 2713(e) and 2714; Sec. 1512 of the Homeland Security Act of 2002, Pub. L. 107-296, Title XV, Nov. 25, 2002, 116 Stat. 2310 (6 U.S.C. 552(d)); E.O. 12777, 56 FR 54757, 3 CFR, 1991 Comp., p. 351, as amended by E.O. 13286, 68 FR 10619, 3 CFR, 2004 Comp., p. 166; Department of Homeland Security Delegation No. 0170.1, para. 2(80).

§ 136.3 [Amended]

66. In § 136.3, following the text “from the Director”, add the text “,”.

§ 136.5 [Amended]

67. In § 136.5(b), in the definition of “NPFC”, following the text “means the Director”, add the text “,”.

§ 136.101 [Amended]

68. In § 136.101(b), following the text “received at the Director”, add the text “,”.

§ 136.305 [Amended]

69. Amend § 136.305 as follows:

a. In paragraph (b)(3), following the words “The type”, remove the word “of”, and add, in its place, the word “and”; and

b. In paragraph (b)(6), following the words “whom further communication”, remove the word “regrading”, and add, in its place, the word “regarding”.

PART 138—FINANCIAL RESPONSIBILITY FOR WATER POLLUTION (VESSELS) AND OPA 90 LIMITS OF LIABILITY (VESSELS AND DEEPWATER PORTS)

70. The authority citation for part 138 continues to read as follows:

Authority: 33 U.S.C. 2704; 33 U.S.C. 2716, 2716a; 42 U.S.C. 9608, 9609; Sec. 1512 of the Homeland Security Act of 2002, Public Law 107-296, Title XV, Nov. 25, 2002, 116 Stat. 2310 (6 U.S.C. 552(d)); E.O. 12580, Sec. 7(b), 3 CFR, 1987 Comp., p. 198; E.O. 12777, Sec. 5, 3 CFR, 1991 Comp., p. 351, as amended by E.O. 13286, 68 FR 10619, 3 CFR, 2004 Comp., p. 166; Department of Homeland Security Delegation Nos. 0170.1 and 5110. Section 138.30 also issued under the authority of 46 U.S.C. 2103 and 14302.

§ 138.20 [Amended]

71. Amend § 138.20(b) as follows:

a. In the definition of “Application”, following the text “U.S. Coast Guard”, add the text “,”;

b. In the definition of “Certificant”, following the text “U.S. Coast Guard”, add the text “,”; and

c. In the definition of “E-COFR”, remove the text “http://www.npfc.gov/cofr”, and add, in its place, the text “https://npfc.uscg.mil/cofr/default.aspx”.

§ 138.40 [Amended]

72. In § 138.40, remove the text “http://www.npfc.gov/cofr”, and add, in its place, the text “https://npfc.uscg.mil/cofr/default.aspx”.

§ 138.45 [Amended]

73. In § 138.45(a), remove the text “http://www.npfc.gov/cofr”, and add, in its place, the text “https://npfc.uscg.mil/cofr/default.aspx”.

§ 138.240 [Amended]

74. In § 138.240(b), following the words “liability in the”, add a space; and following the text “Register.”, add a space.

PART 162—INLAND WATERWAYS NAVIGATION REGULATIONS

75. The authority citation for part 162 continues to read as follows:

Authority: 33 U.S.C. 1231; Department of Homeland Security Delegation No. 0170.1.

§ 162.120 [Amended]

76. In § 162.120(a), following the text “(Manistee County), Frankfort,” remove the text “Charlevois, and Petroskey”, and add, in its place, the text “Charlevoix, and Petoskey”.

PART 165—REGULATED NAVIGATION AREAS AND LIMITED ACCESS AREAS

77. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

§ 165.920 [Amended]

78. In § 165.920(b), following the text “telephone at (313) 568-”, remove the text “9580”, and add, in its place, the text “9560”; and following the text “by writing to:”, remove the text “MSO”, and add, in its place, the text “Sector”.

§ 165.941 [Amended]

79. Amend § 165.941 as follows:

a. Revise the section heading to read as set forth below;

b. In paragraph (a)(4)(i), following the words “southern end of”, remove the word “Harsen's”, and add, in its place, the word “Harsens”;

c. Remove paragraph (a)(5);

d. Redesignate paragraphs (a)(6) through (a)(56) as (a)(5) through (a)(55), respectively;

e. In newly redesignated paragraphs (a)(6), (a)(35), (a)(41), and (a)(49), remove the words “Grosse Point” wherever they appear, and add, in their place, the words “Grosse Pointe”;

f. In newly redesignated paragraph (a)(24) introductory text, remove the word “Kellys” wherever it appears, and add, in its place, the word “Kelleys”;

g. In newly redesignated paragraph (a)(37)(i), remove the word “Russel”, and add, in its place, the word “Russell”;

h. In newly redesignated paragraphs (a)(44) introductory text and (a)(44)(i), remove the words “Grosse Isle” wherever they appear, and add, in their place, the words “Grosse Ile”; and

i. In paragraph (f), following the words “to Mariners. The Captain of the Port”, remove the word “will”, and add, in its place, the word “may”; and following the words “section is cancelled”, add the words “if deemed necessary”.

§ 165.941 Safety Zones; Annual Events in the Captain of the Port Detroit Zone.

* * * * *

PART 177—CORRECTION OF ESPECIALLY HAZARDOUS CONDITIONS

80. The authority citation for part 177 is revised to read as follows:

Authority: 46 U.S.C. 4302, 4311; Pub. L. 103-206, 107 Stat. 2439.

§ 177.09 [Amended]

81. In § 177.09(b)(2), following the text “any other provision of”, remove the text “43 U.S.C.”, and add, in its place, the text “46 U.S.C.”.

Dated: June 12, 2012.
Kathryn A. Sinniger,
Chief, Office of Regulations and Administrative Law U.S. Coast Guard.

[FR Doc. 2012-14848 Filed 6-20-12; 8:45 am]

BILLING CODE 9110-04-P